RAILROAD RETIREMENT BOARD

Proposed Collection; Comment Request

Summary: In accordance with the requirement of Section 3506 (c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and purpose of information collection:

Application for Survivor Insurance Annuities: OMB 3220-0030.

Under Section 2(d) of the Railroad Retirement Act (RRA), monthly survivor annuities are payable to surviving widow(er)s, parents, unmarried children, and in certain cases, divorced wives (husbands), mothers (fathers), remarried widow(er)s, and grandchildren of deceased railroad employees. The collection obtains the information required by the RRB to determine entitlement to and the amount of the annuity applied for.

The RRB currently utilizes Form(s) AA-17, Application for Widow(ers) Annuity, AA-17b Applications for Determination of Widow(er) Disability, AA-17cert, Application Summary and Certification, AA-18, Application for Mother's/Father's and Child's Annuity, AA-19, Application for Child's Annuity, AA-19a, Application for Determination of Child Disability, and AA-20, Application for Parent's Annuity to obtain the necessary information. One response is requested of each respondent. Completion is required to obtain benefits. The RRB proposes non-burden impacting editorial changes to all of the forms in the information collection.

Estimate of Annual Respondent Burden: The estimated annual respondent burden is as follows:

Form #(s) | Annual responses | Time (min) | Burden (hrs)
AA-17 (manual, without assistance) | 150 | 47 | 113
AA-17b (with assistance) | 380 | 40 | 253
AA-17b (without assistance) | 20 | 50 | 17
AA-17cert | 3,265 | 20 | 1,088
AA-18 (manual, without assistance) | 12 | 47 | 9
AA-19 (manual, without assistance) | 9 | 47 | 7
AA-19a (with assistance) | 285 | 45 | 214
AA-19a (without assistance) | 15 | 65 | 16
AA-20 (manual, without assistance) | 1 | 47 | 1

Additional Information or Comments: To request more information or to obtain a copy of the information collection justification, forms, and/or supporting material, please call the RRB Clearance Officer at (312) 751-3363 or send an e-mail request to Charles.Mierzwa@RRB.GOV. Comments regarding the information collection should be addressed to Ronald J. Hodapp, Railroad Retirement Board, 844 North Rush Street, Chicago, Illinois 60611-2092 or send an e-mail to Ronald.Hodapp@RRB.GOV. Written comments should be received within 60 days of this notice.

Charles Mierzwa,
Clearance Officer.

[FR Doc. E7-1466 Filed 1-30-07; 8:45 am]

BILLING CODE 7905-01-P